DEPARTMENT OF TRANSPORTATION

Federal Aviation Administration

14 CFR Part 39

[Docket No. FAA-2007-27015; Directorate Identifier 2006-NM-169-AD]

RIN 2120-AA64

Airworthiness Directives; Airbus Model A318-111 and A318-112 Airplanes and Model A319, A320, and A321 Airplanes

AGENCY: Federal Aviation Administration (FAA), Department of Transportation (DOT).

ACTION: Notice of proposed rulemaking (NPRM).

SUMMARY: The FAA proposes to supersede two existing airworthiness directives (ADs). One AD applies to all Airbus Model A319 and A320 airplanes and currently requires repetitive ultrasonic inspections to detect fatigue cracking in the wing/fuselage joint cruciform fittings, and corrective actions if necessary. The other AD applies to all Airbus Model A319, A320, and A321 airplanes and currently requires a revision to the Airworthiness Limitations section (ALS) of the Instructions for Continued Airworthiness (ICA). This proposed AD would require new revisions to the ALS of the ICA to incorporate service life limits for certain items and inspections to detect fatigue cracking, accidental damage, or corrosion in certain structures; and accomplishment of the repetitive ultrasonic inspections of the wing/fuselage joint cruciform fittings in accordance with the revised ALS of the ICA. This proposed AD would also add airplanes to the applicability. This proposed AD results from issuance of new and more restrictive service life limits and structural inspections based on fatigue testing and in-service findings. We are proposing this AD to detect and correct fatigue cracking, accidental damage, or corrosion in principal structural elements and to prevent failure of certain life limited parts, which could result in reduced structural integrity of the airplane.

DATES: We must receive comments on this proposed AD by February 26, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION:

Comments Invited

We invite you to submit any relevant written data, views, or arguments regarding this proposed AD. Send your comments to an address listed in the ADDRESSES section. Include the docket number “Docket No. FAA-2007-27015; Directorate Identifier 2006-NM-169-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On January 29, 2004, we issued AD 2004-03-06, amendment 39-13450 (69 FR 5909, February 9, 2004), for all Airbus Model A319 and A320 airplanes. That AD requires repetitive ultrasonic inspections to detect fatigue cracking in the wing/fuselage joint cruciform fittings, and corrective actions if necessary. That AD resulted from issuance of mandatory continuing airworthiness information by a foreign civil airworthiness authority. We issued that AD to detect and correct fatigue cracks on the wing/fuselage joint cruciform fittings, which could result in reduced structural integrity of the wing/fuselage.

On January 18, 2005, we issued AD 2005-02-09, amendment 39-13954 (70 FR 3871, January 27, 2005), for all Airbus Model A319, A320, and A321 airplanes. That AD requires a revision to the Airworthiness Limitations section (ALS) of the Instructions for Continued Airworthiness (ICA) to incorporate new and more restrictive service life limits for certain items, and new and more restrictive inspections to detect fatigue cracking, accidental damage, or corrosion in certain structures. That AD resulted from a revision to the Airbus A318/A319/A320/A321 Maintenance Planning Document (MPD) and Airworthiness Limitation Items (ALIs) document, which specify new or more restrictive compliance times for structural inspection and replacement actions. We issued that AD to ensure the continued structural integrity of these airplanes. Accomplishing certain actions in AD 2005-02-09 terminates the repetitive inspections of AD 2004-03-06 for Model A319 and A320 airplanes.

Actions Since Existing ADs Were Issued

Since we issued AD 2004-03-06 and AD 2005-02-09, the European Aviation Safety Agency (EASA), which is the airworthiness authority for the European Union, notified us that an unsafe condition may exist on all Airbus Model A318-111 and A318-112 airplanes and Model A319, A320, and A321 airplanes. The EASA advises that Airbus has issued new and more restrictive service life limits and structural inspections based upon fatigue testing and in-service findings. Fatigue cracking, accidental damage, or corrosion in principal structural elements and failure of certain life limited parts, if not corrected, could result in reduced structural integrity of the airplane.

The EASA also advises that Airbus has moved the service life limits given in sub-Section 9-1-2, “Life Limited Parts,” and sub-Section 9-1-3, “Demonstrated Fatigue Life Parts,” of the Airbus A318/A319/A320/A321 MPD into a new document titled, Airbus A318/A319/A320/A321 ALS Part 1—Safe Life Airworthiness Limitation Items. Also, Airbus has moved the structural significant items (SSIs) of sub-Section 9-2, “Airworthiness Limitation Items,” of the Airbus A318/A319/A320/A321 MPD into a new document titled, Airbus A318/A319/A320/A321 ALS Part 2—Damage-Tolerant Airworthiness Limitation Items, which refers to Airbus A318/A319/A320/A321 Airworthiness Limitation Items, Document AI/SE-M4/95A.0252/96.

Relevant Service Information

Airbus has issued A318/A319/A320/A321 ALS Part 1—Safe Life Airworthiness Limitation Items, dated February 28, 2006. Sub-part 1-2, “Life Limits,” and Sub-part 1-3, “Demonstrated Fatigue Lives,” of the ALS Part 1 document specify new and more restrictive service life limits for certain items.

Airbus has also issued A318/A319/A320/A321 ALS Part 2—Damage-Tolerant Airworthiness Limitation Items, dated February 28, 2006. The ALS Part 2 document refers to Airbus A318/A319/A320/A321 Airworthiness Limitation Items, Document AI/SE-M4/95A.0252/96, Issue 7, dated December 2005 (approved by the EASA on February 7, 2006), which specifies new and more restrictive inspections for SSIs.

Accomplishment of the actions specified in these documents is intended to adequately address the identified unsafe condition. The EASA mandated the service information and issued airworthiness directive 2006-0162, dated June 8, 2006; and airworthiness directive 2006-0165, dated June 13, 2006; to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2004-03-06. This proposed AD would also supersede AD 2005-02-09 and would retain the requirements of existing AD 2005-02-09. This proposed AD would also require revising the ALS of the ICA to incorporate service life limits for certain items and inspections to detect fatigue cracking, accidental damage, or corrosion in certain structures; and accomplishment of the repetitive ultrasonic inspections of the wing/fuselage joint cruciform fittings in accordance with the revised ALS of the ICA.

Change to Existing AD

This proposed AD would retain certain requirements of AD 2005-02-09. Since AD 2005-02-09 was issued, the AD format has been revised, and certain paragraphs have been rearranged. As a result, the corresponding paragraph identifiers have changed in this proposed AD, as listed in the following table:

Revised Paragraph Identifiers
Requirement in AD 2005-02-09 | Corresponding requirement in this proposed AD
Paragraph (a) | Paragraph (f).
Paragraph (b) | Paragraph (g).

Explanation of Change Made to Requirements of Existing AD

Paragraphs (a) and (b) of AD 2005-02-09 specify revising the ALS of the ICA using a method approved by either the FAA or the Direction Générale de l'Aviation Civile (DGAC) (or its delegated agent). The EASA has assumed responsibility for the airplane models that would be subject to this AD. Therefore, we have revised paragraphs (f) and (g) of this NPRM to specify revising the ALS of the ICA using a method approved by the FAA, the DGAC (or its delegated agent), or the EASA (or its delegated agent).

Clarification of Alternative Method of Compliance (AMOC) Paragraph

We have revised this action to clarify the appropriate procedure for notifying the principal inspector before using any approved AMOC on any airplane to which the AMOC applies.

Costs of Compliance

The following table provides the estimated costs, at an average labor rate of $80 per hour, for U.S. operators to comply with this proposed AD.

Estimated Costs
Action | Work hours | Cost per airplane | Number of U.S.-registered airplanes | Fleet cost
ALS Revision (required by AD 2005-02-09) | 1 | $80 | 720 | $57,600
ALS Revision (new proposed action) | 1 | 80 | 720 | 57,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13450 (69 FR 5909, February 9, 2004) and amendment 39-13954 (70 FR 3871, January 27, 2005) and by adding the following new airworthiness directive (AD):

Airbus: Docket No. FAA-2007-27015; Directorate Identifier 2006-NM-169-AD.

Comments Due Date

(a) The FAA must receive comments on this AD action by February 26, 2007.

Affected ADs

(b) This AD supersedes AD 2004-03-06 and AD 2005-02-09.

Applicability

(c) This AD applies to all Airbus Model A318-111, A318-112, A319, A320, and A321 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l) of this AD. The request should include a description of changes to the required inspections that will ensure the continued damage tolerance of the affected structure. The FAA has provided guidance for this determination in Advisory Circular (AC) 25.1529-1.

Unsafe Condition

(d) This AD results from issuance of new and more restrictive service life limits and structural inspections based on fatigue testing and in-service findings. We are issuing this AD to detect and correct fatigue cracking, accidental damage, or corrosion in principal structural elements and to prevent failure of certain life limited parts, which could result in reduced structural integrity of the airplane.

Compliance

(e) You are responsible for having the actions required by this AD performed within the compliance times specified, unless the actions have already been done.

Restatement of Requirements of AD 2005-02-09

Revise Airworthiness Limitations Section (ALS)

(f) For all Model A319, A320, and A321 airplanes: Within 6 months after March 3, 2005 (the effective date of AD 2005-02-09), revise the ALS of the Instructions for Continued Airworthiness in accordance with a method approved by the Manager, International Branch, ANM-116, Transport Airplane Directorate, FAA; or the Direction Générale de l'Aviation Civile (DGAC) (or its delegated agent); or the European Aviation Safety Agency (EASA) (or its delegated agent). One approved method of compliance is incorporating Airbus A318/A319/A320/A321 Maintenance Planning Document (MPD), sub-Section 9-1-2, “Life Limited Parts,” and sub-Section 9-1-3, “Demonstrated Fatigue Life Parts,” both Revision 06, both dated June 13, 2003.

Note 2: Airbus Service Information Letter 32-098, dated December 22, 2003, may be used as a source of service information for managing life limited and demonstrated fatigue life parts that were not previously tracked.

(g) For all Model A319, A320, and A321 airplanes; except Model A319 airplanes on which Airbus Modifications 28238, 28162, and 28342 were incorporated during production: Within 6 months after March 3, 2005, revise the ALS of the Instructions for Continued Airworthiness in accordance with a method approved by the Manager, International Branch, ANM-116; or the DGAC (or its delegated agent); or the EASA (or its delegated agent). One approved method of compliance is incorporating both Airbus A318/A319/A320/A321 MPD, sub-Section 9-2, “Airworthiness Limitation Items,” Revision 06, dated June 13, 2003; and Airbus A318/A319/A320/A321 Airworthiness Limitation Items (ALIs), Document AI/SE-M4/95A.0252/96, Issue 6, dated May 15, 2003 (approved by the DGAC on July 15, 2003).

New Requirements of This AD

Revise ALS To Incorporate Safe Life ALIs

(h) For all airplanes: Within 3 months after the effective date of this AD, revise the ALS of the Instructions for Continued Airworthiness to incorporate Sub-part 1-2, “Life Limits,” and Sub-part 1-3, “Demonstrated Fatigue Lives,” of Airbus A318/A319/A320/A321 ALS Part 1—Safe Life Airworthiness Limitation Items, dated February 28, 2006 (hereafter referred to as “ALS Part 1”). Accomplish the actions in ALS Part 1 at the times specified in ALS Part 1, except as provided by paragraph (j) of this AD. For Model A319, A320, and A321 airplanes, accomplishing the revision in this paragraph terminates the requirements of paragraph (f) of this AD.

Revise ALS To Incorporate Damage-Tolerant ALIs

(i) For all airplanes, except Model A319 airplanes on which Airbus Modifications 28238, 28162, and 28342 have been incorporated in production: Within 14 days after the effective date of this AD, revise the ALS of the Instructions for Continued Airworthiness to incorporate Airbus A318/A319/A320/A321 Airworthiness Limitation Items, Document AI/SE-M4/95A.0252/96, Issue 7, dated December 2005 (approved by the EASA on February 7, 2006) (hereafter referred to as “Issue 7 of the ALI”). Accomplish the actions in Issue 7 of the ALI at the times specified in Issue 7 of the ALI, except as provided by paragraph (j) of this AD. For Model A319, A320, and A321 airplanes, accomplishing the revision in this paragraph terminates the requirements of paragraph (g) of this AD.

Grace Period for New or More Restrictive Actions

(j) For any new of more restrictive life limit introduced with ALS Part 1, replace the part at the time specified in ALS Part 1 or within 6 months after the effective date of this AD, whichever is later. For any new or more restrictive inspection introduced with Issue 7 of the ALI, do the inspection at the time specified in Issue 7 of the ALI or within 6 months after the effective date of this AD, whichever is later.

No Alternative Life Limits, Inspections, or Inspection Intervals

(k) After the actions specified in paragraphs (h) and (i) of this AD have been accomplished, no alternative life limits, inspections, or inspection intervals may be used, except as provided by paragraphs (j) and (l) of this AD.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) EASA airworthiness directive 2006-0162, dated June 8, 2006; and EASA airworthiness direction 2006-0165, dated June 13, 2006; also address the subject of this AD.

Issued in Renton, Washington, on January 12, 2007.
Ali Bahrami,
Manager, Transport Airplane Directorate, Aircraft Certification Service.

[FR Doc. E7-1205 Filed 1-25-07; 8:45 am]

BILLING CODE 4910-13-P